DEPARTMENT OF HOMELAND SECURITY

Agency Information Collection Activities: Homeland Security Acquisition Regulation (HSAR) Various Forms

AGENCY: Office of the Chief Procurement Officer, Department of Homeland Security (DHS).

ACTION: 30-Day notice and request for comments; Extension of a Currently Approved Collection, 1600-0002.

SUMMARY: The DHS Office of the Chief Procurement Officer will submit the following Information Collection Request (ICR) to the Office of Management and Budget (OMB) for review and clearance in accordance with the Paperwork Reduction Act of 1995. The purpose of the information collected is to ensure proper closing of physically complete contracts. The information will be used by DHS contracting officers to ensure compliance with terms and conditions of DHS contracts and to complete reports required by other Federal agencies such as the General Services Administration (GSA) and the Department of Labor (DOL). If this information is not collected, DHS could inadvertently violate statutory or regulatory requirements and DHS's interests concerning inventions and contractors' claims would not be protected. DHS previously published this ICR in the Federal Register on Tuesday, March 6, 2018 for a 60-day public comment period. Six unrelated comments were received by DHS. The purpose of this notice is to allow an additional 30 days for public comments.

DATES: Comments are encouraged and will be accepted until July 11, 2018. This process is conducted in accordance with 5 CFR 1320.1.

ADDRESSES: Interested persons are invited to submit written comments on the proposed information collection to the Office of Information and Regulatory Affairs, Office of Management and Budget. Comments should be addressed to OMB Desk Officer, Department of Homeland Security and sent via electronic mail to dhsdeskofficer@omb.eop.gov.

SUPPLEMENTARY INFORMATION: This information collection is associated with the forms listed below and is necessary to implement applicable parts of the HSAR (48 CFR Chapter 30). There are four forms under this collection of information request that are used by offerors, contractors, and the general public to comply with requirements in contracts awarded by DHS. The information collected is used by contracting officers to ensure compliance with terms and conditions of DHS contracts.

The forms are as follows:

1. DHS Form 0700-01, Cumulative Claim and Reconciliation Statement (see (HSAR) 48 CFR 3004.804-507(a)(3)

2. DHS Form 0700-02, Contractor's Assignment of Refund, Rebates, Credits and Other Amounts (see (HSAR) 48 CFR 3004.804-570(a)(2)

3. DHS Form 0700-03, Contractor's Release (see (HSAR) 48 CFR 3004.804-570(a)(1)

4. DHS Form 0700-04, Employee Claim for Wage Restitution (see (HSAR) 48 CFR 3022.406-9

These forms will be prepared by individuals, contractors or contract employees during contract administration. The information collected includes the following:

• DHS Forms 0700-01, 0700-02 and 0700-03: Prepared by individuals, contractors or contract employees prior to contract closure to determine whether there are excess funds that are available for deobligation versus remaining (payable) funds on contracts; assignment or transfer of rights, title, and interest to the Government; and release from liability. The contracting officer obtains the forms from the contractor for closeout, as applicable. Forms 0700-01 and 02 are mainly used for calculating costs related to the closeout of cost-reimbursement, time-and-materials, and labor-hour contracts; and, Form 0700-03 is mainly used for calculating costs related to the closeout of cost-reimbursement, time-and-materials, and labor-hour contracts but can be used for all contract types.

• DHS Form 0700-04 is prepared by contractor employees making claims for unpaid wages. Contracting officers must obtain this form from employees seeking restitution under contracts to provide to the Comptroller General. This form is applicable to all contract types, both opened and closed.

The purpose of the information collected is to ensure proper closing of physically complete contracts. The information will be used by DHS contracting officers to ensure compliance with terms and conditions of DHS contracts and to complete reports required by other Federal agencies such as the GSA and DOL. If this information is not collected, DHS could inadvertently violate statutory or regulatory requirements and DHS's interests concerning inventions and contractors' claims would not be protected.

The four DHS forms are available on the DHS Homepage (https://www.dhs.gov/sites/default/files/publications/CPO_HSAR_1_0.pdf). These forms can be filled in electronically and can be submitted via email or facsimile to the specified Government point of contact. Since the responses must meet specific timeframes, a centralized mailbox or website would not be an expeditious or practical method of submission. The use of email or facsimile is the best solution and is most commonly used in the Government. The information requested by these forms is required by the HSAR. The forms are prescribed for use in the closeout of applicable contracts and during contract administration.

There are FAR and HSAR clauses that require protection of rights in data and proprietary information if requested and designated by an offeror or contractor. Additionally, disclosure or non-disclosure of information is handled in accordance with the Freedom of Information Act. There is no assurance of confidentiality provided to the respondents. No PIA is required as the information is collected from DHS personnel (contractors only). Although, the DHS/ALL/PIA-006 General Contacts lists PIA does provided basic coverage. And technically, because this information is not retrieved by personal identifier, no system of records notice is required. However, DHS/ALL-021 DHS Contractors and Consultants provides coverage for the collection of records on DHS contractors and consultants, to include resume and qualifying employment information.

The burden estimates provided are based upon contracts reported by DHS and its Components to the Federal Procurement Data System (FPDS) for Fiscal Year 2016. No program changes occurred and there were no changes to the information being collected. However, the burden was adjusted to reflect an agency adjustment increase of 46,701 in the number of respondents within DHS for Fiscal Year 2016, as well as an increase in the average hourly wage rate.

This is an Extension of a Currently Approved Collection, 1600-0002. DHS previously published this ICR in the Federal Register on Tuesday, March 6, 2018 at 83 FR 9531 for a 60-day public comment period, and is soliciting public comment for another 30 days. OMB is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of the Chief Procurement Officer, DHS.

Title: Agency Information Collection Activities: Homeland Security Acquisition Regulation (HSAR) Various Homeland Security Acquisitions Regulations Forms

OMB Number: 1600-0002.

Frequency: On Occasion.

Affected Public: Individuals or Households.

Number of Respondents: 56,238.

Estimated Time per Respondent: 1 hour.

Total Burden Hours: 56,238.

Dated: May 23, 2018.
Melissa Bruce,
Executive Director, Enterprise Business Management Office.

[FR Doc. 2018-12524 Filed 6-8-18; 8:45 am]

BILLING CODE 9110-9B-P